DEPARTMENT OF HEALTH AND HUMAN SERVICES

Substance Abuse and Mental Health Services Administration

Fiscal Year (FY) 2009 Funding Opportunity

AGENCY: Substance Abuse and Mental Health Services Administration, HHS.

ACTION: Notice of intent to award a Single Source Supplement Grant to the Community Anti-Drug Coalitions of America (CADCA).

SUMMARY: This notice is to inform the public that the Substance Abuse and Mental Health Services Administration (SAMHSA) intends to award approximately $30,000 (total costs) for one year to the Community Anti-Drug Coalitions of America (CADCA). This is not a formal request for applications. Assistance will be provided only to the Community Anti-Drug Coalitions of America (CADCA) based on the receipt of a satisfactory application that is approved by an independent review group.

Funding Opportunity Title: SP-09-007.

Catalog of Federal Domestic Assistance (CFDA) Number: 93.243.

Authority: Sections 509, 516 and 520A of the Public Health Service Act, as amended.

Justification: Only the Community Anti-Drug Coalitions of America (CADCA) is eligible to apply. The Substance Abuse and Mental Health Services Administration (SAMHSA) is seeking to supplement a single source grant to the Community Anti-Drug Coalitions of America (CADCA) to support a Prevention Town Hall Meeting and a Partners Meeting at CADCA's Mid-Year Training Institute. The Training Institute will disseminate knowledge and transfer state-of-the-art information, assisting community leaders in developing effective local programs, practices, and policies that support national substance abuse goals, outcomes and efforts, such as National Alcohol and Drug Addiction Recovery Month, and prevention of underage drinking. The Prevention Town Hall Meeting will provide an in-depth overview of substance abuse prevention principles, and make the link to community-level change strategies promoted by the Drug-Free Communities grant program. The Partners Meeting is intended to bring all Federal and other key constituents together to update and discuss new initiatives and ongoing projects. Grant funds will also support evaluation of the Prevention Town Hall Meeting to obtain findings and identify directions for future trainings.

The Community Anti-Drug Coalitions of America (CADCA) is uniquely qualified to carry out the activities of this program because the purpose of the program is to partner with a national organization that has special expertise and unique broad, national-level experience in working with community anti-drug coalitions. CADCA is the only national organization that annually provides training and technical assistance through a mid-year leadership conference for thousands of members of community coalitions dedicated to preventing substance abuse. CADCA currently is the sole organization that plays a major role in helping to strengthen and develop the nation's prevention infrastructure of anti-drug coalitions in support of on-going activities funded by SAMHSA's priority grant programs including: the Substance Abuse Prevention and Treatment Block Grant, the Strategic Prevention Framework State Incentive Grant, and the Drug Free Communities Support Program. CADCA is the only identified organization that currently meets this experience level and national reach to over 5,000 identified anti-drug coalitions across the country.

Contact: Shelly Hara, Substance Abuse and Mental Health Services Administration, 1 Choke Cherry Road, Room 8-1081, Rockville, MD 20857; telephone: (240) 276-2321; E-mail: shelly.hara@samhsa.hhs.gov.

Dated: July 24, 2009.
Toian Vaughn,
Committee Management Officer, Substance Abuse and Mental Health, Services Administration.

[FR Doc. E9-18187 Filed 7-29-09; 8:45 am]

BILLING CODE 4162-20-P